DEPARTMENT OF ENERGY

Environmental Management Site-Specific Advisory Board, Portsmouth

AGENCY: Department of Energy (DOE)

ACTION: Notice of open meeting.

SUMMARY: This notice announces a meeting of the Environmental Management Site-Specific Advisory Board (EM SSAB), Portsmouth. The Federal Advisory Committee Act (Pub. L. 92-463, 86 Stat. 770) requires that public notice of this meeting be announced in the Federal Register.

DATES: Saturday, October 3, 2009, 4:30 p.m.

ADDRESSES: Shawnee State Lodge, 4404 State Route 125 # B, West Portsmouth, Ohio 45663.

FOR FURTHER INFORMATION CONTACT: David Kozlowski, Deputy Designated Federal Officer, Department of Energy Portsmouth/Paducah Project Office, Post Office Box 700, Piketon, Ohio 45661, (740) 897-2759, David.Kozlowski@lex.doe.gov.

SUPPLEMENTARY INFORMATION: Purpose of the Board: The purpose of the Board is to make recommendations to DOE in the areas of environmental restoration, waste management and related activities.

Tentative Agenda

• Call to Order, Introductions, Review of Agenda;

• Approval of September Meeting Minutes;

• Deputy Designated Federal Officer's Comments;

• Federal Coordinator's Comments;

• Liaisons' Comments;

• Administrative Issues:

○ Committee Updates;

○ Motions;

• Public Comments;

• Final Comments;

• Adjourn.

Breaks taken as appropriate.

Public Participation: The meeting is open to the public. The EM SSAB, Portsmouth, welcomes the attendance of the public at its advisory committee meetings and will make every effort to accommodate persons with physical disabilities or special needs. If you require special accommodations due to a disability, please contact David Kozlowski at least seven days in advance of the meeting at the phone number listed above. Written statements may be filed with the Board either before or after the meeting. Individuals who wish to make oral statements pertaining to agenda items should contact David Kozlowski at the address or telephone number listed above. Requests must be received five days prior to the meeting and reasonable provision will be made to include the presentation in the agenda. The Deputy Designated Federal Officer is empowered to conduct the meeting in a fashion that will facilitate the orderly conduct of business. Individuals wishing to make public comment will be provided a maximum of five minutes to present their comments.

Minutes: Minutes will be available by writing or calling David Kozlowski at the address and phone number listed above. Minutes will also be available at the following Web site: http://www.ports-ssab.org/publicmeetings.html.

Issued at Washington, DC on September 10, 2009.
Rachel Samuel,
Deputy Committee Management Officer.

[FR Doc. E9-22283 Filed 9-15-09; 8:45 am]

BILLING CODE 6450-01-P